DEPARTMENT OF THE INTERIOR

Fish and Wildlife Service

Emergency Exemption: Issuance of Permit for Endangered Species.

AGENCY: Fish and Wildlife Service, Interior.

ACTION: Notice of emergency issuance of permit for endangered species.

SUMMARY: The following permit was issued.

ADDRESSES: Documents and other information submitted for this application are available for review, subject to the requirements of the Privacy Act and Freedom of Information Act, by any party who submits a written request for a copy of such documents to: U.S. Fish and Wildlife Service, Division of Management Authority, 4401 North Fairfax Drive, Room 700, Arlington, Virginia 22203, telephone (703) 358-2104 or fax (703) 358-2281.

FOR FURTHER INFORMATION CONTACT: Division of Management Authority, telephone (703) 358-2104.

SUPPLEMENTARY INFORMATION: On September 16, 2005, the U.S. Fish and Wildlife Service (Service) issued a permit (PRT-109802) to the Virginia Polytechnic Institute and State University (CVM Phase 2), Blacksburg, VA, to import carcasses from wild chimpanzees (Pan troglodytes) collected in Tanzania for the purpose of scientific research. This action was authorized under Section 10(c) of the Endangered Species Act of 1973, as amended (16 U.S.C. 1531 et seq.). The Service determined that an emergency affecting the health and life of the chimpanzees existed, and that no reasonable alternative was available to the applicant for the following reasons.

Virginia Polytechnic Institute and State University requested a permit to import carcasses from deceased animals found in the Mahale Mountains National Park in Kigoma, Tanzania and the Rubondo Island National Park in Mwanza, Tanzania for emergency and ongoing health and disease evaluation purposes. The carcasses will be utilized exclusively for diagnostic and scientific purposes. The specimens from these animals will be used to run diagnostic tests in order to determine the cause of illness and death related to an ongoing disease outbreak at the National Parks within the past several weeks. The necessary diagnostic testing is not available in Africa. The results of health and disease testing involving these chimpanzees will help determine what caused the outbreak in order to develop interventions to help prevent reoccurrence.

Dated: September 16, 2005.
Michael S. Moore,
Senior Permit Biologist, Branch of Permits, Division of Management Authority.

[FR Doc. 05-19970 Filed 10-4-05; 8:45 am]

BILLING CODE 4310-55-P